DEPARTMENT OF LABOR

Employee Benefits Security Administration

174th Meeting of the Advisory Council on Employee Welfare and Pension Benefit Plans; Notice of Meeting—Revised

Pursuant to the authority contained in Section 512 of the Employee Retirement Income Security Act of 1974 (ERISA), 29 U.S.C. 1142, the 174th open meeting of the Advisory Council on Employee Welfare and Pension Benefit Plans (also known as the ERISA Advisory Council) will be held on November 3-4, 2014. No votes will occur until November 4.

Despite our efforts to get this meeting notice published early, we were unable to do so. The Advisory Council meeting notice appeared on the public inspection desk of the Federal Register on October 20, 2014. This revised notice clarifies that final votes on the Council's recommendations to the Secretary will occur on November 4, 2014, as announced by the Council chair at public meetings of the ERISA Advisory Council in June and September. On October 14, 2014, a notice of the meeting appeared on the ERISA Advisory Council Web page of the EBSA Web site.

The meeting will take place in C5320 Room 6, U.S. Department of Labor, 200 Constitution Avenue NW., Washington, DC 20210 on November 3, from 1 p.m. to approximately 5:00 p.m. On November 4, the meeting will start at 8:30 a.m. and conclude at approximately 4:00 p.m., with a break for lunch. The morning session on November 4 will be in C5320 Room 6. The afternoon session on November 4 will take place in Room S-2508 at the same address. The purpose of the open meeting on is for the Advisory Council members to discuss the recommendations they will present to the Secretary on November 3 and, on the morning of November 4, to finalize the recommendations. At the November 4 afternoon session, the Council members will receive an update from the Assistant Secretary of Labor for the Employee Benefits Security Administration (EBSA) and present their recommendations.

The Council recommendations will be on the following issues: (1) Issues and Considerations around Facilitating Lifetime Plan Participation, (2) PBM Compensation and Fee Disclosure, and (3) Outsourcing Employee Benefit Plan Services. Descriptions of these topics are available on the Advisory Council page of the EBSA Web site at http://www.dol.gov/ebsa/aboutebsa/erisa_advisory_council.html.

Organizations or members of the public wishing to submit a written statement may do so by submitting 30 copies on or before October 30, 2014 to Larry Good, Executive Secretary, ERISA Advisory Council, U.S. Department of Labor, Suite N-5623, 200 Constitution Avenue NW., Washington, DC 20210. Statements also may be submitted as email attachments in rich text, Word, or pdf format transmitted to good.larry@dol.gov. It is requested that statements not be included in the body of an email. Statements deemed relevant by the Advisory Council and received on or before October 30 will be included in the record of the meeting and will be available by contacting the EBSA Public Disclosure Room. Do not include any personally identifiable information (such as name, address, or other contact information) or confidential business information that you do not want publicly disclosed.

Individuals or representatives of organizations wishing to address the Advisory Council should forward their requests to the Executive Secretary or telephone (202) 693-8668. Oral presentations will be limited to ten minutes, time permitting, but an extended statement may be submitted for the record. Individuals with disabilities who need special accommodations should contact the Executive Secretary by October 30, 2014 at the address indicated.

Signed at Washington, DC, this 21st day of October, 2014.
Phyllis C. Borzi,
Assistant Secretary, Employee Benefits Security Administration.

[FR Doc. 2014-25444 Filed 10-22-14; 11:15 am]

BILLING CODE 4510-29-P